FEDERAL COMMUNICATIONS COMMISSION

47 CFR Part 101

[IB Docket No. 98-172, FCC 02-317]

Redesignation of the 17.7-19.7 GHz Frequency Band, Blanket Licensing of Satellite Earth Stations in the 17.7-20.2 GHz and 27.5-30.0 GHz Frequency Bands, and the Allocation of Additional Spectrum in the 17.3-17.8 GHz and 24.75-25.25 GHz Frequency Bands for Broadcast Satellite-Service Use

AGENCY: Federal Communications Commission.

ACTION: Correcting amendments.

SUMMARY: This document contains corrections to the final rules which were published in the Federal Register on April 8, 2003, 68 FR 16962. The rules are related to the 18 GHz band plan, blanket licensing rules, and relocation.

DATES: Effective April 30, 2004.

FOR FURTHER INFORMATION CONTACT: Peggy Reitzel, Policy Division, International Bureau, (202) 418-1499.

SUPPLEMENTARY INFORMATION:

Background

The Commission adopted a Second Order on Reconsideration amending several of the Commission's rules regarding the 18 GHz band plan, blanket licensing rules, and relocation rules adopted in an earlier Report and Order, 65 FR 54144, September 7, 2000. On April 8, 2003, the Federal Register published a summary of the final rule in the above captioned proceeding.

Need for Correction

As published, the final rules contain an error in § 101.147. Instruction 23 of the rules amended § 101.147 by revising paragraph (r), but the revised text of paragraph (r) was inadvertently set out as the whole section without any subsections. This error resulted in the removal of paragraphs (r)(1) through (r)(10).

List of Subjects in 47 CFR Part 101

Communications equipment, Radio, Reporting and recordkeeping requirements.

Accordingly, 47 CFR part 101 is corrected by making the following correcting amendments:

PART 101—FIXED MICROWAVE SERVICES

1. The authority citation for part 101 continues to read as follows:

Authority: 47 U.S.C. 154 and 303.

2. Revise paragraph (r) of § 101.147 to read as follows:

§ 101.147 Frequency assignments.

* * * * *

(r) 17,700 to 19,700 and 24,250 to 25,250 MHz: Operation of stations using frequencies in these bands is permitted to the extent specified in this paragraph. Until November 19, 2012, stations operating in the band 18.3-18.58 GHz that were licensed or had applications pending before the Commission as of November 19, 2002 shall operate on a shared co-primary basis with other services under parts 21, 25, and 74 of this chapter. Until October 31, 2011, operations in the band 19.26-19.3 GHz and low power systems operating pursuant to § 101.147(r)(10) shall operate on a co-primary basis. Until June 8, 2010, stations operating in the band 18.58-18.8 GHz that were licensed or had applications pending before the Commission as of June 8, 2000 may continue those operations on a shared co-primary basis with other services under parts 21, 25, and 74 of this chapter. Until June 8, 2010, stations operating in the band 18.8-19.3 GHz that were licensed or had applications pending before the Commission as of September 18, 1998 may continue those operations on a shared co-primary basis with other services under parts 21, 25, and 74 of this chapter. After November 19, 2012, stations operating in the band 18.3-18.58 GHz are not entitled to protection from fixed-satellite service operations and must not cause unacceptable interference to fixed-satellite service station operations. After June 8, 2010, operations in the 18.58-19.30 GHz band are not entitled to protection from fixed-satellite service operations and must not cause unacceptable interference to fixed-satellite service station operations. After November 19, 2002, no new applications for part 101 licenses will be accepted in the 18.3-18.58 GHz band. After June 8, 2000, no new applications for part 101 licenses will be accepted in the 18.58-19.3 GHz band. Licensees may use either a two-way link or one frequency of a frequency pair for a one-way link and must coordinate proposed operations pursuant to the procedures required in § 101.103. (Note, however, that stations authorized as of September 9, 1983, to use frequencies in the band 17.7-19.7 GHz may, upon proper application, continue to be authorized for such operations, consistent with the above conditions related to the 18.58-19.3 GHz band.)

(1) 2 MHz maximum authorized bandwidth channel:

Transmit (received) (MHz) | Receive (transmit) (MHz)
18141.0 | N/A.

(2) 5 MHz maximum authorized bandwidth channels:

Transmit (received) (MHz) | Receive (transmit) (MHz)
340 MHz Separation
18762.5 | 19102.5
18767.5 | 19107.5
18772.5 | 19112.5
18777.5 | 19117.5
18782.5 | 19122.5
18787.5 | 19127.5
18792.5 | 19132.5
18797.5 | 19137.5
18802.5 | 19142.5
18807.5 | 19147.5
18812.5 | 19152.5
18817.5 | 19157.5

(3) 6 MHz maximum authorized bandwidth channels:

Transmit (receive) (MHz) | Receive (transmit) (MHz)
216 MHz Separation
18145.0 | N/A
18151.0 | 18367.0
18157.0 | 18373.0
18163.0 | 18379.0
18169.0 | 18385.0
18175.0 | 18391.0
18181.0 | 18397.0
18187.0 | 18403.0
18193.0 | 18409.0
18199.0 | 18415.0
18205.0 | 18421.0
18211.0 | 18427.0
18217.0 | 18433.0
18223.0 | 18439.0
18229.0 | 18445.0
18235.0 | 18451.0
18241.0 | 18457.0
18247.0 | 18463.0
18253.0 | 18469.0
18259.0 | 18475.0
18265.0 | 18481.0
18271.0 | 18487.0
18277.0 | 18493.0
18283.0 | 18499.0
18289.0 | 18505.0
18295.0 | 18511.0
18301.0 | 18517.0
18307.0 | 18523.0
18313.0 | 18529.0
18319.0 | 18535.0
18325.0 | 18541.0
18331.0 | 18547.0
18337.0 | 18553.0
18343.0 | 18559.0
18349.0 | 18565.0
18355.0 | 18571.0
18361.0 | 18577.0

(4) 10 MHz maximum authorized bandwidth channels:

Transmit (receive) (MHz) | Receive (transmit) (MHz)
1560 MHz Separation
17705.0 | 19265.0
17715.0 | 19275.0
17725.0 | 19285.0
17735.0 | 19295.0
17745.0 | 19305.0
17755.0 | 19315.0
17765.0 | 19325.0
17775.0 | 19335.0
17785.0 | 19345.0
17795.0 | 19355.0
17805.0 | 19365.0
17815.0 | 19375.0
17825.0 | 19385.0
17835.0 | 19395.0
17845.0 | 19405.0
17855.0 | 19415.0
17865.0 | 19425.0
17875.0 | 19435.0
17885.0 | 19445.0
17895.0 | 19455.0
17905.0 | 19465.0
17915.0 | 19475.0
17925.0 | 19485.0
17935.0 | 19495.0
17945.0 | 19505.0
17955.0 | 19515.0
17965.0 | 19525.0
17975.0 | 19535.0
17985.0 | 19545.0
17995.0 | 19555.0
18005.0 | 19565.0
18015.0 | 19575.0
18025.0 | 19585.0
18035.0 | 19595.0
18045.0 | 19605.0
18055.0 | 19615.0
18065.0 | 19625.0
18075.0 | 19635.0
18085.0 | 19645.0
18095.0 | 19655.0
18105.0 | 19665.0
18115.0 | 19675.0
18125.0 | 19685.0
18135.0 | 19695.0
340 MHz Separation
18585.0 | 18925.0
18595.0 | 18935.0
18605.0 | 18945.0
18615.0 | 18955.0
18625.0 | 18965.0
18635.0 | 18975.0
18645.0 | 18985.0
18655.0 | 18995.0
18665.0 | 19005.0
18675.0 | 19015.0
18685.0 | 19025.0
18695.0 | 19035.0
18705.0 | 19045.0
18715.0 | 19055.0
18725.0 | 19065.0
18735.0 | 19075.0
18745.0 | 19085.0
18755.0 | 19095.0
18765.0 | 19105.0
18775.0 | 19115.0
18785.0 | 19125.0
18795.0 | 19135.0
18805.0 | 19145.0
18815.0 | 19155.0

(5) 20 MHz maximum authorized bandwidth channels:

Transmit (receive) (MHz) | Receive (transmit) (MHz)
1560 MHz Separation
17710.0 | 19270.0
17730.0 | 19290.0
17750.0 | 19310.0
17770.0 | 19330.0
17790.0 | 19350.0
17810.0 | 19370.0
17830.0 | 19390.0
17850.0 | 19410.0
17870.0 | 19430.0
17890.0 | 19450.0
17910.0 | 19470.0
17930.0 | 19490.0
17950.0 | 19510.0
17970.0 | 19530.0
17990.0 | 19550.0
18010.0 | 19570.0
18030.0 | 19590.0
18050.0 | 19610.0
18070.0 | 19630.0
18090.0 | 19650.0
18110.0 | 19670.0
18130.0 | 19690.0
340 MHz Separation
18590.0 | 18930.0
18610.0 | 18950.0
18630.0 | 18970.0
18650.0 | 18990.0
18670.0 | 19010.0
18690.0 | 19030.0
18710.0 | 19050.0
18730.0 | 19070.0
18750.0 | 19090.0
18770.0 | 19110.0
18790.0 | 19130.0
18810.0 | 19150.0

(6) 40 MHz maximum authorized bandwidth channels:

Transmit (receive) (MHz) | Receive (transmit) (MHz)
1560 MHz Separation
17720.0 | 19280.0
17760.0 | 19320.0
17800.0 | 19360.0
17840.0 | 19400.0
17880.0 | 19440.0
17920.0 | 19480.0
17960.0 | 19520.0
18000.0 | 19560.0
18040.0 | 19600.0
18080.0 | 19640.0
18120.0 | 19680.0

(7) 80 MHz maximum authorized bandwidth channels:

Transmit (receive) (MHz) | Receive (transmit) (MHz)
1560 MHz Separation
17740.0 | 19300.0
17820.0 | 19380.0
17900.0 | 19460.0
17980.0 | 19540.0
18060.0 | 19620.0

(8) 220 MHz maximum authorized bandwidth channels:

Transmit (receive) (MHz) | Receive (transmit) (MHz)
17810.0 | 18470.0
18030.0 | 19370.0
18250.0 | 19590.0

(9) The following frequencies are available for point-to-multipoint DEMS Systems, except that channels 35-39 were available only to existing 18 GHz DEMS licensee as of March 14, 1997 and are now available by geographic area licensing in the 24 GHz Service to be used as the licensee desires. The 24 GHz spectrum can be aggregated or disaggregated and does not have to be used in the transmit/receive manner shown except to comply with international agreements along the U.S. borders. Systems operating on Channels 25-34 must cease operations as of January 1, 2001, except that those stations on these channels within 150 km of the coordinates 38° 48′ N/76° 52′ W (Washington, DC, area) and 39° 43′ N/101° 46′ W (Denver, Colorado area) must cease operations of June 5, 1997:

Channel No. | Nodal station frequency band (MHz) limits | User station frequency band (MHz) limits
25 | 18,820-18,830 | 19,160-19,170
26 | 18,830-18,840 | 19,170-19,180
27 | 18,840-18,850 | 19,180-19,190
28 | 18,850-18,860 | 19,190-19,200
29 | 18,860-18,870 | 19,200-19,210
30 | 18,870-18,880 | 19,210-19,220
31 | 18,880-18,890 | 19,220-19,230
32 | 18,890-18,900 | 19,230-19,240
33 | 18,900-18,910 | 19,240-19,250
34 | 18,910-18,920 | 19,250-19,260
35 | 24,250-24,290 | 25,050-25,090
36 | 24,290-24,330 | 25,090-25,130
37 | 24,330-24,370 | 25,130-25,170
38 | 24,370-24,410 | 25,170-25,210
39 | 24,410-24,450 | 25,210-25,250

(i) Each station on channels 25 through 34 will be limited to one frequency pair per SMSA. Additional channel pairs may be assigned upon a showing that the service to be provided will fully utilize the spectrum requested. A channel pair may be subdivided as desired by the licensee. (ii) A frequency pair on channels 25 through 34 may be assigned to more than one licensee in the same SMSA or service area so long as the interference protection criteria of § 101.105 are met. (iii) Channels 35 through 39 are licensed in the 24 GHz Service by Economic Areas for any digital fixed service. Channels may be used at either nodal or subscriber station locations for transmit or receive but must be coordinated with adjacent channel and adjacent area users in accordance with the provisions of § 101.509. Stations must also comply with international coordination agreements.

(10) Special provision for low power systems in the 17700-19700 MHz band: Notwithstanding other provisions in this rule part, and except for specified areas around Washington, DC, and Denver, Colorado, licensees of point-to-multipoint channel pairs 25-29 identified in paragraph (r)(9) of this section may operate multiple low power transmitting devices within a defined service area. New operations are prohibited within 55 km when used outdoor and within 20 km when used indoor of the coordinates 38° 48′ N/76° 52′ W and 39° 43′ N/104° 46′ W. The service area will be a 28 kilometer omnidirectional radius originating from specified center reference coordinates. The specified center coordinates must be no closer than 56 kilometers from any co-channel nodal station or the specified center coordinates of another co-channel system. Applicants/licensees do not need to specify the location of each individual transmitting device operating within their defined service areas. Such operations are available to private and common carriers and are subject to the following requirements for the low power transmitting devices:

(i) Power must not exceed one watt EIRP and 100 milliwatts transmitter output power,

(ii) A frequency tolerance of 0.001% must be maintained; and

(iii) The mean power of emissions shall be attenuated in accordance with the following schedule:

(A) In any 4 kHz band, the center frequency of which is removed from the center frequency of the assigned channel by more than 50 percent of the channel bandwidth and is within the bands 18,820-18,870 MHz or 19,160-19,210 MHz:

A=35+.003(F-0.5B) dB

or,

80 dB (whichever is the lesser attenuation).

Where:

A=Attenuation (in decibels) below output power level contained within the channel for a given polarization.

B=Bandwidth of channel in kHz.

F=Absolute value of the difference between the center frequency of the 4 kHz band measured at the center frequency of the channel in kHz.

(B) In any 4 kHz band the center frequency of which is outside the bands 18.820-18.870 GHz: At least 43+10log10 (mean output power in watts) decibels.

(iv) Low power stations authorized in the band 18.8-19.3 GHz after June 8, 2000 are restricted to indoor use only. No new licenses will be authorized for applications received after April 1, 2002.

* * * * *

Federal Communications Commission.
Marlene H. Dortch,
Secretary.

[FR Doc. 04-9882 Filed 4-29-04; 8:45 am]

BILLING CODE 6712-01-P